DEPARTMENT OF COMMERCE

National Oceanic and Atmospheric Administration

50 CFR Part 648

[Docket No. 151110999-5999-01]

RIN 648-XG866

Fisheries of the Northeastern United States; Atlantic Mackerel, Squid, and Butterfish; 2019 River Herring and Shad Catch Cap Reached for the Directed Atlantic Mackerel Commercial Fishery

AGENCY: National Marine Fisheries Service (NMFS), National Oceanic and Atmospheric Administration (NOAA), Commerce.

ACTION: Temporary rule; closure.

SUMMARY: NMFS is reducing the Atlantic mackerel possession limit for Federal limited access Atlantic mackerel permitted vessels based on a projection that the 2019 river herring and shad catch cap for that fishery has been reached. This action is necessary to comply with the regulations implementing the Atlantic Mackerel, Squid, and Butterfish Fishery Management Plan and is intended to limit the harvest of river herring and shad in the Greater Atlantic Region.

DATES: Effective 00:01 hr local time, March 12, 2019, through December 31, 2019.

FOR FURTHER INFORMATION CONTACT: Alyson Pitts, Fishery Management Specialist, (978) 281-9352.

SUPPLEMENTARY INFORMATION: Regulations governing the Atlantic mackerel fishery can be found at 50 CFR part 648, including requirements for setting annual catch cap allocations for river herring and shad. NMFS set the 2018 river herring and shad catch cap for the directed Atlantic mackerel fishery at 82 mt as part of a final rule to implement the 2016 through 2018 Atlantic mackerel specifications (81 FR 24504, April 4, 2016). The 2019 river herring and shad catch cap will be adjusted in the final rule of Framework adjustment 13 to the Atlantic mackerel, Squid, and Butterfish Fishery Management Plan, which is currently under development. NMFS will evaluate the mackerel fishery and landings relative to the new proposed cap, if approved.

The NMFS Administrator of the Greater Atlantic Region (Regional Administrator) monitors river herring and shad catch from the directed Atlantic mackerel fishery based on vessel and dealer reports, state data, and other available information. The regulations at § 648.24 require that when the Regional Administrator projects that when 95 percent of the river herring and shad catch cap has been caught by the directed Atlantic mackerel fishery (i.e., trips that land more than 20,000 lb (9.08 mt) of Atlantic mackerel) will reach 95 percent of a catch cap, NMFS must prohibit, through notification in the Federal Register, Federal limited access permitted Atlantic mackerel vessels from fishing for, possessing, transferring, receiving, landing, or selling more than 20,000 lb (9.08 mt) of Atlantic mackerel per trip or landing more than once per calendar day for the remainder of the calendar year.

The Regional Administrator has determined, based on vessel and dealer reports, state data, and other available information, that Federal limited access Atlantic mackerel vessels will have caught 95 percent of the river herring and shad catch cap by March 12, 2019. The regulations at § 648.24(d) require NMFS to provide at least a 72 hour notice to the public before any Atlantic mackerel possession reduction or fishery closure. Therefore, effective 00:01 hr local time, March 12, 2019, federally permitted vessels targeting Atlantic mackerel may not fish for, catch, possess, transfer, land, or sell more than 20,000 lb (9.08 mt) of Atlantic mackerel per trip or calendar day through December 31, 2019. Vessels with more than 20,000 lb (9.08 mt) of Atlantic mackerel that have entered port before 00:01 hr local time, March 12, 2019, may land and sell more than 20,000 lb (9.08 mt) of Atlantic mackerel from that trip.

Classification

This action is required by 50 CFR part 648 and is exempt from review under Executive Order 12866.

NMFS finds good cause pursuant to 5 U.S.C. 553(b)(B) to waive prior notice and the opportunity for public comment because it would be contrary to the public interest and impracticable. This action restricts the catch of Atlantic mackerel for the remainder of the fishing year. Data have only recently become available indicating that directed Atlantic mackerel trips by federally permitted vessels will have caught 95 percent of the river herring and shad catch cap established for the 2019 calendar year. Once NMFS projects that river herring and shad catch will reach 95 percent of the catch cap, NMFS is required by Federal regulation to implement a 20,000 lb (9.08 mt) Atlantic mackerel possession limit and prohibit vessels from landing Atlantic mackerel more than once per calendar day through December 31, 2019. The regulations at § 648.24(b)(6) require such action to ensure that such vessels do not exceed the river herring and shad catch cap for the Atlantic mackerel fishery. If implementation of this closure is delayed to solicit prior public comment, the river herring and shad catch cap for this fishing year will likely be exceeded; thereby, undermining the conservation objectives of the Atlantic Mackerel, Squid, and Butterfish Fishery Management Plan. NMFS further finds, pursuant to 5 U.S.C. 553(d)(3), good cause to waive the 30-day delayed effectiveness period for the reasons stated above.

Authority: 16 U.S.C. 1801 et seq.

Dated: March 8, 2019.
Alan D. Risenhoover,
Director, Office of Sustainable Fisheries, National Marine Fisheries Service.

[FR Doc. 2019-04594 Filed 3-8-19; 4:15 pm]

BILLING CODE 3510-22-P